DEPARTMENT OF TRANSPORTATION

Federal Transit Administration

Intent To Prepare an Environmental Impact Statement for Proposed Transit Improvements in the Eastside Transit Corridor Phase 2, Eastern Portion of Los Angeles County, CA

AGENCY: Federal Transit Administration, DOT.

ACTION: Notice of Intent to prepare an Environmental Impact Statement.

SUMMARY: The Federal Transit Administration (FTA) and the Los Angeles County Metropolitan Transportation Authority (LACMTA) intend to prepare an Environmental Impact Statement (EIS) for the Eastside Transit Corridor Phase 2 Project in Los Angeles County, California. LACMTA operates the Metro transit system in Los Angeles County. The proposed project would provide a continuation of the Metro Gold Line Eastside Extension, a light rail transit line (LRT), from Union Station in downtown Los Angeles to East Los Angeles. This connection between Downtown Los Angeles and the growing Eastside is consistent with regional transportation and land use plans. Phase 2 would expand upon the Gold Line Eastside Extension investment and bring improved, high-capacity transit service as far east as Whittier or South El Monte, connecting the cities of Commerce, Monterey Park, Montebello, Rosemead, South El Monte, Pico Rivera, Santa Fe Springs and Whittier, and unincorporated portions of Los Angeles County which include east Los Angeles and west Whittier-Los Nietos.

The EIS will be prepared in accordance with the requirements of the National Environmental Policy Act (NEPA) and its implementing regulations. LACMTA will also use the EIS document to comply with the California Environmental Quality Act (CEQA), which requires an Environmental Impact Report (EIR). The purpose of this notice is to alert interested parties regarding the intent to prepare the EIS, to provide information on the nature of the proposed project and possible alternatives, to invite public participation in the EIS process (including providing comments on the scope of the Draft Environmental Impact Statement (DEIS)), to announce that public scoping meetings will be conducted, and to identify participating and cooperating agency contacts.

DATES: Written comments on the scope of the EIS, including the project's purpose and need, the alternatives to be considered, the impacts to be evaluated, and the methodologies to be used in the evaluations should be sent to LACMTA on or before April 14, 2010, at the address below. See ADDRESSES below for the address to which written public comments may be sent. Public scoping meetings to accept comments on the scope of the EIS/EIR will be held on the following dates:

• Monday, February 22, 2010; 6 to 8 p.m. at the Pico Women's Center, 9214 Mines Avenue, Pico Rivera, CA.

• Wednesday, February 24, 2010; 6 to 8 p.m. at the South El Monte Senior Center/Dining Room, 1556 Central Avenue, South El Monte, CA.

• Thursday, February 25, 2010; 6 to 8 p.m. at the Senior Center at City Park—South Wing, 115 South Taylor Avenue, Montebello, CA.

• Saturday, February 27, 2010; 10 a.m. to 12 p.m. at the Salvation Army Santa Fe Springs—Studio 12000, 12000 East Washington Boulevard, Whittier, CA.

The project's purpose and need and the description of alternatives for the proposed project will be presented at these meetings. The buildings used for the scoping meetings are accessible to persons with disabilities. Any individual who requires special assistance, such as a sign language interpreter, to participate in the scoping meeting should contact Ms. Kimberly Yu, Transportation Planning Manager, LACMTA, at (213) 922-7910, or yuki@metro.net.

Scoping materials will be available at the meetings and on the LACMTA Web site (http://www.metro.net/eastsidephase2). Paper copies of the scoping materials may also be obtained from Ms. Ann Kerman, Outreach Project Manager, LACMTA, at (213) 922-7671, or kermana@metro.net. An interagency scoping meeting will be held on Thursday, February 18, 2010, at 10 a.m. at LACMTA, in the Windsor Conference Room, 15th Floor, One Gateway Plaza, Los Angeles, CA 90012. Representatives of Native American Tribal governments and of all Federal, State, regional and local agencies that may have an interest in any aspect of the project will be invited to be participating or cooperating agencies, as appropriate.

ADDRESSES: Comments will be accepted at the public scoping meetings or they may be sent to Ms. Kimberly Yu, Project Manager, Los Angeles County Metropolitan Transportation Authority, One Gateway Plaza, Mail Stop 99-22-2, Los Angeles, CA 90012, or via e-mail at yuki@metro.net. The locations of the public scoping meetings are given above under DATES.

FOR FURTHER INFORMATION CONTACT: Mr. Ray Tellis, Team Leader, Los Angeles Metropolitan Office, Federal Transit Administration, 888 South Figueroa Street, Suite 1850, Los Angeles, CA 90017, phone (213) 202-3950, e-mail ray.tellis@dot.gov.

SUPPLEMENTARY INFORMATION:

Scoping

Scoping is the process of determining the scope, focus and content of an EIS. FTA and LACMTA invite all interested individuals and organizations, public agencies, and Native American Tribes to comment on the scope of the Draft EIS, including the project's purpose and need, the alternatives to be studied, the impacts to be evaluated, and the evaluation methods to be used. Comments should focus on: Alternatives that may be less costly or have less environmental or community impacts while achieving similar transportation objectives, and the identification of any significant social, economic, or environmental issues relating to the alternatives.

NEPA “scoping” has specific and fairly limited objectives, one of which is to identify the significant issues associated with alternatives that will be examined in detail in the document, while simultaneously limiting consideration and development of issues that are not truly significant. It is in the NEPA scoping process that potentially significant environmental impacts—those that give rise to the need to prepare an environmental impact statement—should be identified; impacts that are deemed not to be significant need not be developed extensively in the context of the impact statement, thereby keeping the statement focused on impacts of consequence. Transit projects may also generate environmental benefits; these should be highlighted as well—the impact statement process should draw attention to positive impacts, not just negative impacts.

Once the scope of the environmental study, including significant environmental issues to be addressed, is settled, an annotated outline of the document will be prepared and shared with interested agencies and the public. The outline serves at least three worthy purposes, including (1) Documenting the results of the scoping process; (2) contributing to the transparency of the process; and (3) providing a clear roadmap for concise development of the environmental document.

In the interest of producing a readable and user-friendly public document, and pursuant to 40 CFR 1502.10, the EIS shall be limited to 250 pages exclusive of any 4(f) and/or 6(f) evaluation. The EIS should emphasize graphics and virtual visual simulations over technical jargon, and technical appendices shall be included in a separate volume.

Project Initiation

The FTA and LACMTA will prepare an Environmental Impact Statement/Environmental Impact Report (EIS/EIR) for the Eastside Transit Corridor Phase 2 Project pursuant to 23 U.S.C. 139 and the California Environmental Quality Act (CEQA). LACMTA is serving as the local lead agency for purposes of CEQA environmental clearance, and FTA is serving as the Federal lead agency for purposes of National Environmental Policy Act (NEPA) environmental clearance. This notice shall alert interested parties to the preparation of the EIS/EIR, describe the alternatives under consideration, invite public participation in the EIS/EIR process, and announce the public scoping meetings. FTA and LACMTA will invite interested Federal, State, Tribal, regional and local government agencies to be participating agencies under the provisions of Section 6002 of SAFETEA-LU.

Purpose and Need for the Project

The purpose of this project is to improve public transit service and mobility in the Eastside Transit Corridor Phase 2. The project would provide the study area with improved fixed-guideway east-west transit service from the Metro Gold Line Eastside Extension (Phase 1) to cities farther east of the city of Los Angeles. Possible eastern extensions from the Metro Gold Line Phase 1 terminus at Atlantic Boulevard would generally continue east parallel to or along State Route 60 or south along Garfield Avenue, turning southeast along Washington Boulevard. The overall goal of the proposed project is to improve mobility in the Eastside Transit Corridor Phase 2 by extending the benefits of the existing Metro Gold Line and bus investments beyond the current terminus. Mobility problems and potential improvements for this corridor have been well documented in many studies that are available from Metro's Records Management Department, including numerous Metro Red Line planning studies, Eastside Transit Corridor Studies: Re-Evaluation Major Investment Study (2000), the Eastside Transit Corridor Phase 2 Final Alternatives Analysis Report (2009), the Eastside Transit Corridor Phase 2 Alternatives Analysis Addendum (2009), Southern California Association of Governments (SCAG) planning studies, the Metro Rapid Demonstration Project (2000), and in the Southern California Association of Governments' Regional Transportation Plan (2004).

The Eastside Transit Corridor Phase 2 is identified in the LACMTA's Long Range Plan and has been selected as one of the many transit and highway projects to receive local Measure R funding. Additional considerations supporting the project's need include: (1) The concentration of activity centers and destinations dispersed throughout the project area, such as Montebello Town Center, Monterey Park Mall, Pico Rivera Town Center, Industry Office Park, Santa Fe Springs Promenade, Uptown Whittier District, and Whittier Narrows Recreation Center, which have a high volume of pedestrian activity and attract residents from within and outside of the study area; (2) over the next 20 years, population is expected to grow by nearly 24%, for a total of 830,000, and employment is also expected to increase 15%, for a total of 384,000 jobs; (3) increasing traffic congestion on the highway and arterial network throughout the project area; (4) transit-supportive General Plans in the cities of Commerce, Montebello, Monterey Park, Pico Rivera, Rosemead, Whittier, and county of Los Angeles; (5) significant transit dependent population in western and eastern portions of the project area; and (6) emerging travel demand patterns associated with a job-rich study area that has led to significant westbound congestion during the morning rush hours and corresponding eastbound congestion during the evening rush hours.

Project Location and Environmental Setting

The Eastside Transit Corridor Phase 2 Project is located in eastern Los Angeles County and is generally bounded by Pomona Boulevard and State Route 60 (SR-60) Freeway to the north, Peck Road and Painter Avenue to the east, Olympic and Washington Boulevards to the south, and Atlantic Boulevard to the west. The project area consists of portions of eight jurisdictions, including the cities of Commerce, Montebello, Monterey Park, Pico Rivera, Rosemead, Santa Fe Springs, South El Monte, Whittier and portions of unincorporated Los Angeles County which includes east Los Angeles and west Whittier-Los Nietos. A diverse mix of land uses are located within the project area, including single- and multi-family residences, commercial and retail uses, industrial development, parks and recreational uses including the Whittier Narrows Recreation Center, health and medical uses, educational institutions, flood control facilities, and vacant land.

The proposed Eastside Transit Corridor Phase 2 project would connect to the eastern terminus of the Metro Gold Line Eastside Extension. In conjunction with the Metro Gold Line Eastside Extension, the project would provide through transit service between downtown Los Angeles and eastern Los Angeles County.

The two alternatives, Light Rail Transit (LRT) system, would begin at the Metro Gold Line Eastside Extension terminus at Atlantic Boulevard and Pomona Boulevard and continue either east along SR-60 Freeway or southeast along Garfield Avenue and Washington Boulevard. Stations plus associated parking, traction power substations (TPSS), and a maintenance yard would be part of each LRT alternative.

Alternatives

The Eastside Transit Corridor Phase 2 Alternatives Analysis Report (2009) and further refinement documented in the Alternatives Analysis Report Addendum, prepared for LACMTA, identified four alternatives for further consideration in the EIS/EIR. The four alternatives include: A No-Build Alternative, Transportation System Management (TSM) Alternative, SR-60 LRT Alternative, and Washington Boulevard LRT Alternative.

No-Build Alternative: The No-Build Alternative would maintain existing transit service through the year 2035. No new transportation infrastructure would be built within the project area aside from projects currently under construction, or funded for construction and operation by 2035 by the recently approved Measure R sales tax. This alternative will include the highway and transit projects in the current Metro Long Range Transportation Plan and the 2035 Southern California Association of Governments Regional Transportation Plan. The completion of the Metro Rapid Bus Program would be included as well as possible additional feeder bus networks to serve the region's major activity centers.

Transportation System Management (TSM) Alternative: The DEIS/DEIR will evaluate transportation and environmental effects of modest improvements in the highway and transit systems beyond those in the No-Build Alternative. The TSM Alternative would include low-cost improvements to the No-Build Alternative to reduce delay and enhance mobility. The TSM Alternative would emphasize transportation system upgrades, such as intersection improvements, minor road widening, traffic engineering actions, bus route restructuring, shortened bus headways, expanded use of articulated buses, reserved bus lanes, expanded park-and-ride facilities, express and limited-stop service, signalization improvements, and timed-transfer operations. Key elements of the TSM Alternative include: Providing new Pomona Freeway Express service connecting to the Metro Gold Line Eastside Extension terminus; providing new Beverly Boulevard Rapid bus service; adding service to M10 Whittier Boulevard and M50 Washington Boulevard bus routes; upgrading M30 Garfield Avenue and M20 Montebello Boulevard bus lines; adding service to Metro 265 and 266 local buses; adding service to Foothill Transit 274; and providing new 577 Express service operating along Metro Route 270.

SR-60 LRT Alternative: This build alternative alignment extends approximately 6.9 miles east with a street level, at-grade system from the current Metro Gold Line Eastside Extension terminus at Atlantic Boulevard and Pomona Boulevard and transitions to an aerial configuration along the south edge of the SR-60 Freeway, within the right-of-way, to Peck Road. A total of four aerial stations are proposed under this alternative with locations at SR-60 and Garfield Avenue, SR-60 and Montebello Town Center, SR-60 and Santa Anita Avenue, and SR-60 and Peck Road.

Washington Boulevard LRT Alternative: This build alternative alignment extends east with a street level, at-grade system from the current Metro Gold Line Eastside Extension terminus at Atlantic Boulevard and Pomona Boulevard and transitions to an aerial configuration along the south edge of the SR-60 Freeway. The aerial alignment turns and continues south on Garfield Avenue, and then continues southeast along Washington Boulevard to a terminus east of Lambert Road. This alternative is approximately 9.3 miles in length, with a total of six aerial stations located at SR-60 and Garfield Avenue, Garfield Avenue and Whittier Boulevard, Washington Boulevard and Greenwood Avenue, Washington and Rosemead Boulevards, Washington and Norwalk Boulevards, and Washington Boulevard and Lambert Road.

Probable Effects

The purpose of this EIS/EIR process is to study, in a public setting, the effects of the proposed project and its alternatives on the physical, human, and natural environment. The FTA and LACMTA will evaluate all significant environmental, social, and economic impacts of the construction and operation of the proposed project. The probable impacts will be determined as a part of project scoping. Unless further screening illuminates areas of possible impact, resource areas will be limited to those uncovered during scoping. Measures to avoid, minimize, and mitigate adverse impacts will also be identified and evaluated.

FTA Procedures

The regulations implementing NEPA, as well as provisions of the Safe, Accountable, Flexible, Efficient Transportation Equity Act: A Legacy for Users (SAFETEA-LU), call for public involvement in the EIS process. Section 6002 of SAFETEA-LU requires that FTA and LACMTA do the following: (1) Extend an invitation to other Federal and non-Federal agencies and Native American Tribes that may have an interest in the proposed project to become “participating agencies;” (2) provide an opportunity for involvement by participating agencies and the public to help define the purpose and need for a proposed project, as well as the range of alternatives for consideration in the EIS; and (3) establish a plan for coordinating public and agency participation in, and comment on, the environmental review process. An invitation to become a participating or cooperating agency, with scoping materials appended, will be extended to other Federal and non-Federal agencies and Native American Tribes that may have an interest in the proposed project. It is possible that FTA and LACMTA will not be able to identify all Federal and non-Federal agencies and Native American Tribes that may have such an interest. Any Federal or non-Federal agency or Native American Tribe interested in the proposed project that does not receive an invitation to become a participating agency should notify at the earliest opportunity the Project Manager identified above under ADDRESSES.

A comprehensive public involvement program and a Coordination Plan for public and interagency involvement will be developed for the project and posted on LACMTA's Web site (Eastside Transit Corridor Phase 2 Project Web page: http://www.metro.net/eastsidephase2). The public involvement program includes a full range of activities including the project Web page on the LACMTA Web site, development and distribution of project newsletters, and outreach to local officials, community and civic groups, and the public. Specific activities or events for involvement will be detailed in the public involvement program.

LACMTA may seek New Starts funding for the proposed project under 49 United States Code 5309 and will, therefore, be subject to New Starts regulations (49 Code of Federal Regulations (CFR) Part 611). The New Starts regulations also require the submission of certain project-justification information to support a request to initiate preliminary engineering. This information is normally developed in conjunction with the NEPA process. Pertinent New Starts evaluation criteria will be included in the EIS.

The EIS will be prepared in accordance with NEPA and its implementing regulations issued by the Council on Environmental Quality (40 CFR Parts 1500-1508) and with the FTA/Federal Highway Administration regulations “Environmental Impact and Related Procedures” (23 CFR Part 771). In accordance with 23 CFR Part 771.105(a) and 23 CFR Part 774, FTA will comply with all Federal environmental laws, regulations, and executive orders applicable to the proposed project during the environmental review process to the maximum extent practicable. These requirements include, but are not limited to, the environmental and public hearing provisions of Federal transit laws (49 U.S.C. 5301(e), 5323(b), and 5324); the project-level air quality conformity regulation of the U.S. Environmental Protection Agency (EPA) (40 CFR Part 93); the Section 404(b)(1) guidelines of EPA (40 CFR Part 230); the regulation implementing Section 106 of the National Historic Preservation Act (36 CFR Part 800); the regulation implementing Section 7 of the Endangered Species Act (50 CFR Part 402); Section 4(f) of the Department of Transportation Act (23 CFR Part 774); and Executive Orders 12898 on environmental justice, 11988 on floodplain management, and 11990 on wetlands.

Issued on: January 20, 2010.
Leslie T. Rogers,
Regional Administrator, Region IX, Federal Transit Administration.

[FR Doc. 2010-1332 Filed 1-22-10; 8:45 am]

BILLING CODE 4910-57-P